DEPARTMENT OF ENERGY

Federal Energy Regulatory Commission

[Project No. 308-007]

PacifiCorp Energy; Notice of Application Accepted for Filing and Soliciting Motions To Intervene and Protests

Take notice that the following hydroelectric application has been filed with the Commission and is available for public inspection.

a. Type of Application: Subsequent License (Minor Project).

b. Project No.: 308-007.

c. Date filed: February 28, 2014.

d. Applicant: PacifiCorp Energy (PacifiCorp).

e. Name of Project: Wallowa Falls Hydroelectric Project.

f. Location: The existing project is located on Royal Purple Creek and the East and West Forks of the Wallowa River in Wallowa County, Oregon. The project would occupy 12.68 acres of Federal land managed by the United States Forest Service.

g. Filed Pursuant to: Federal Power Act 16 U.S.C. 791(a)-825(r).

h. Applicant Contact: Russ Howison, Relicensing Project Manager, PacifiCorp Energy, 825 NE Multnomah, Suite 1500, Portland, OR 97232; Telephone (503) 813-6626.

i. FERC Contact: Matt Cutlip, (503) 552-2762 or matt.cutlip@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-308-007.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The existing Wallowa Falls Hydroelectric Project consists of the following existing facilities: (1) A 2-foot-high, 9-foot-long concrete diversion dam with a 1-foot-wide spillway on Royal Purple Creek; (2) a 240-foot-long, 8-inch-diameter wood-stave and polyvinylchloride pipeline conveying water from the Royal Purple Creek diversion dam to a de-silting pond; (3) an 18-foot-high, 125-foot-long, buttressed rock-filled timber crib dam with impervious gravel and asphalt core and a 30-foot-wide spillway on the East Fork Wallowa River; (4) a 0.2-acre de-silting pond; (5) a 2-foot-high by 2-foot-wide concrete intake structure with a headgate and steel trash rack; (6) a low-level sluiceway with a steel trash rack and cast iron gate connecting to a 2-foot-diameter steel pipe passing through the dam to provide instream flow releases to the bypassed reach; (7) a 5,688-foot-long steel penstock varying in diameter from 24 to 16 inches and consisting of buried sections or above-ground sections supported on timber crib trestles; (8) a powerhouse containing one impulse turbine-generator unit with an installed capacity of 1,100 kilowatts; (9) a 40-foot-long concrete-lined tailrace which conveys powerhouse flows to a 1,000-foot-long unlined and braided tailrace channel discharging into the West Fork Wallowa River; (10) a 20-foot-long, 7.2-kilovolt transmission line which connects to the Wallowa Falls substation; and (11) appurtenant facilities.

The project is operated run-of-river. Up to 1 cubic feet per second (cfs) of flow is diverted from Royal Purple Creek and discharged into the de-silting pond. Up to 16 cfs of water (i.e., 15 cfs maximum from East Fork Wallowa River and 1 cfs from Royal Purple Creek) is diverted through the intake structure at the East Fork Wallow River dam into the steel penstock and conveyed to the powerhouse where it flows through the single impulse turbine and discharges through the tailrace into the West Fork Wallowa River. The project's current license requires a minimum instream flow release of 0.5 cfs or inflow, whichever is less, in the bypassed reach. The current license also mandates that PacifiCorp restrict sediment flushing from the de-silting pond to the period from May 1 to August 30 to protect kokanee salmon.

PacifiCorp proposes to modify the existing facilities by constructing a buried 30-inch-diameter, 1,000-foot-long pipe and rerouting powerhouse flows from the current discharge location in the West Fork to the East Fork Wallowa River. PacifiCorp also proposes to: Increase the minimum flow release in the bypassed reach to 4 cfs or inflow, whichever is less; modify the sediment management program to only enable sediment flushing during the high-flow month of June; upgrade the instream flow compliance monitoring equipment in the bypassed reach; upgrade recreational facilities at the non-project Pacific Park Campground; and install new signage and interpretive displays at the project.

PacifiCorp proposes to amend the project boundary by adding 28.3 acres to incorporate the Pacific Park Campground, forebay access road, buried tailrace pipe, and other new project features.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any protests or motions to intervene must be received on or before the specified comment date for the particular application.

All filings must (1) bear in all capital letters the title “MOTION TO INTERVENE” or “PROTEST”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

A copy of all other filings in reference to this application must be accompanied by proof of service on all persons listed in the service list prepared by the Commission in this proceeding, in accordance with 18 CFR 4.34(b) and 385.2010.

Dated: September 18, 2014.
Kimberly D. Bose,
Secretary.

[FR Doc. 2014-22795 Filed 9-24-14; 8:45 am]

BILLING CODE 6717-01-P